DEPARTMENT OF EDUCATION

[Docket No.: ED-2023-SCC-0107]

Agency Information Collection Activities; Submission to the Office of Management and Budget for Review and Approval; Comment Request; School Ambassador Fellowship Application

AGENCY: Office of Elementary and Secondary Education (OESE), Department of Education (ED).

ACTION: Notice.

SUMMARY: In accordance with the Paperwork Reduction Act (PRA) of 1995, the Department is proposing a new information collection request (ICR).

DATES: Interested persons are invited to submit comments on or before September 28, 2023.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Orman Feres, (202) 453-6921.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: School Ambassador Fellowship Application.

OMB Control Number: 1810-NEW.

Type of Review: New ICR.

Respondents/Affected Public: Individuals or Households.

Total Estimated Number of Annual Responses: 6,000.

Total Estimated Number of Annual Burden Hours: 14,250.

Abstract: The Office of Elementary and Secondary Education (OESE) in the US Department of Education (ED) requests clearance for a new information collection for the School Ambassador Fellowship program. The U.S. Department of Education established the School Ambassador Fellowship to enable outstanding teachers, administrators, and other school leaders, such as school counselors, psychologists, social workers, and librarians to bring their school and classroom expertise to the Department and to expand their knowledge of the national dialogue about education. The School Ambassador Fellowship is a professional learning community designed to improve educational outcomes for students by leveraging the expertise of school-based practitioners in the creation, evaluation, and dissemination of information around national education initiatives. The Intergovernmental Personnel Act (IPA) mobility program regulations (5 CFR part 334), revised effective May 29, 1997, allow federal agencies to facilitate cooperation between the Federal Government and the non-Federal entity through the temporary assignment of skilled personnel. In order to identify the most skilled personnel for the position of Ambassador Fellow we are requesting OMB approval to collect School Ambassador Fellowship applications.

Dated: August 23, 2023.
Kun Mullan,
PRA Coordinator, Strategic Collections and Clearance, Governance and Strategy Division, Office of Chief Data Officer, Office of Planning, Evaluation and Policy Development.

[FR Doc. 2023-18537 Filed 8-28-23; 8:45 am]

BILLING CODE 4000-01-P